DEPARTMENT OF AGRICULTURE

Agricultural Marketing Service

[Docket Number FV-05-303]

United States Standards for Grades of Bunched Italian Sprouting Broccoli

AGENCY: Agricultural Marketing Service, USDA.

ACTION: Notice.

SUMMARY: The Agricultural Marketing Service (AMS) is revising the voluntary United States Standards for Grades of Bunched Italian Sprouting Broccoli. AMS is revising the standards to include provisions for certifying and grading broccoli crowns and florets. Specific size requirements for broccoli crowns and florets are being established. Additionally, the size requirements for the U.S. Fancy grade are being revised to provide minimum and maximum lengths for broccoli bunches “unless otherwise specified.” AMS is also revising the size specification section to allow percentages to be determined “by weight,” as well as “by count,” when fairly uniform in size. AMS is adding a definition for fairly uniform and definitions for the terms florets and crowns and revising the definition for diameter. AMS is defining and adding “same type” to the requirements for each of the grades. AMS is eliminating the unclassified category. Additionally, AMS is revising the title of the standards to United States Standards for Grades of Italian Sprouting Broccoli as the standards will now apply to multiple forms of broccoli. These changes are made to update the broccoli grade standards and better reflect current marketing practices.

DATES: Effective Date: November 2, 2006.

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The revised United States Standards for Grades of Italian Sprouting Broccoli will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” The Agricultural Marketing Service (AMS) is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the United States Standards for Grades of Bunched Italian Sprouting Broccoli using the procedures that appear in part 36, Title 7 of the Code of Federal Regulations (7 CFR part 36). These standards were last revised in 1943.

Background

On April 21, 2005, AMS published a notice in the Federal Register (70 FR 20730) soliciting comments for possible revisions of the United States Standards for Grades of Bunched Italian Sprouting Broccoli. Based on the comments received and information gathered, AMS developed revised grade standards for broccoli. AMS published a notice in the February 28, 2006, Federal Register (71 FR 10001) soliciting comments for the possible revision of the United States Standards for Grades of Bunched Italian Sprouting Broccoli. In response to this notice, AMS received two comments on the proposed revisions. One comment received was from an agricultural trade association and the other from a grower. The comments received are available by accessing the AMS, Fresh Products Branch Web site at: http://www.ams.usda.gov/fv/fpbdocketlist.htm.

The agricultural trade association supported including broccoli crowns and florets into the United States Standards for Grades of Bunched Italian Sprouting Broccoli. They also supported having maximum stem lengths for broccoli crowns. AMS is establishing sizes for minimum and maximum lengths for the U.S. Fancy and U.S. No. 1 grades of broccoli for crown and floret styles. The requirements include the option for minimum and maximum lengths to be “unless otherwise specified.” AMS is also establishing sizes for minimum and maximum diameter for the U.S. Fancy grade for crowns and florets as well as for florets in the U.S. No. 1 grade. AMS has also included the option for diameter to be specified in connection with the U.S. No. 1 grade for broccoli crowns. The U.S. Fancy grade length requirements for bunched broccoli is being revised to provide for minimum and maximum lengths “unless otherwise specified.” The sizes for the U.S. Fancy grades and the U.S. No. 1 grades are as listed. The sizes for the U.S. Fancy grades are as follows: For Bunched Broccoli. (a) The diameter of each stalk shall be not less than 2½ inches. Unless otherwise specified, the length of each stalk shall be not less than 6 inches or more than 8½ inches. For Broccoli Crowns. (b) The diameter of each crown shall be not less than 2½ inches or more than 5 inches. Unless otherwise specified, the length of each stalk shall be not less than 2½ inches or more than 5 inches. For Broccoli Florets. (c) The diameter of each floret shall be not less than ¾ inch or more than 3 inches. Unless otherwise specified, the length of each stem shall not be less than 1 inch or more than 3½ inches. The sizes for the U.S. No. 1 grades are as follows: For Bunched Broccoli. (a) There are no requirements for diameter but diameter may be specified for any lot as set forth in “Size specifications” section. Unless otherwise specified, the length of each stalk shall be not less than 5 inches or more than 9 inches. For Broccoli Crowns. (b) There are no requirements for diameter but diameter may be specified for any lot as set forth in “Size specifications” section. Unless otherwise specified, the length of each crown shall be not less than 3½ inches or more than 6 inches. For Broccoli Florets. (c) The diameter of each floret shall be not less than 1 inch or more than 4 inches. Unless otherwise specified, the length of each floret shall not be less than 1½ inch or more than 4½ inches.

The association also wanted bunched broccoli to contain more than one stalk. AMS disagrees with this comment because, as defined in the standards, “Bunch” means: “Stalks bound together to form a unit. A single stalk may be considered a bunch if it is approximately as large as other bunches in the lot.” AMS believes that this definition offers flexibility to the industry and will keep that option available.

The grower requested, that the Department consider allowing the sale of broccoli crowns as a unit or an individual item, without a weight statement. The United States Standards issued under the 1946 Act does not regulate the sale of graded commodities. However, AMS is revising the size specification section of the standards to provide percentages to be determined and certified individually “by weight” as well as “by count” when fairly uniform.

AMS is revising the title of the standards to United States Standards for Grades of Italian Sprouting Broccoli as these standards now will apply to broccoli crowns, florets, and bunched broccoli. AMS is revising the size specification section to allow percentages to be determined “by weight” as well as “by count” when fairly uniform, in order to increase the efficiency of inspections. AMS is defining “fairly uniform” since it is referenced in the standards but not currently defined. “Fairly uniform” means: (a) For bunched broccoli: Bunches are considered fairly uniform if the diameter of the bunches within the container do not vary more than three inches. (b) For broccoli crowns: Crowns are considered to be fairly uniform if the diameter of the crowns within the container do not vary more than three inches. (c) For broccoli florets: Florets are considered fairly uniform if the diameter of the florets within the sample do not vary more than 1½ inches. Additionally, AMS is adding definitions for florets and crowns. “Florets” or “Florettes” means the main stem is cut back considerably and only a single smaller secondary stem remains with the bud cluster. Florets are bud clusters or pieces of the bud cluster that have been closely trimmed from the head. Crowns or Crown cuts are defined as: “Crowns” mean the main stem is cut back from a portion of the broccoli plant including the stems which are of lengths according to the grade applied, bud clusters, and leaves. The definition for diameter is revised to: “Diameter” means the measurement across the bud cluster. With the inclusion of crowns and florets in the standards, AMS is adding “same type” to the requirements for the grades and defining “same type” as: “Same type” means lots shall consist of broccoli with similar type characteristics, i.e., bunched can not be mixed with florets.

AMS is eliminating the unclassified category. This category is being removed from all standards when they are revised. This category is not a grade and only serves to show than no grade has been applied to the lot. It is no longer considered necessary.

The official grades of broccoli covered by these standards are determined by the procedures set forth in the Regulations Governing Inspection, Certification, and Standards of Fresh Fruits, Vegetables and Other Products (7 CFR 51.1 to 51.62).

The United States Standards for Grades of Italian Sprouting Broccoli will become effective 30-days after publication of this notice in the Federal Register.

Authority: 7 U.S.C. 1621—1627.

Dated: September 25, 2006.
Kenneth C. Clayton,
Associate Administrator, Agricultural Marketing Service.

[FR Doc. E6-16256 Filed 10-2-06; 8:45 am]

BILLING CODE 3410-02-P